DEPARTMENT OF TRANSPORTATION

Federal Aviation Administration

Notice of Intent To Rule on Application To Impose and Use the Revenue From a Passenger Facility Charge (PFC) at Sacramento International Airport, Sacramento, CA

AGENCY: Federal Aviation Administration (FAA), DOT.

ACTION: Notice of Intent to Rule on Application.

SUMMARY: The FAA proposes to rule and invites public comment on the application to impose and use a PFC at Sacramento International Airport under the provisions of the Aviation Safety and Capacity Expansion Act of 1990 (Title IX of the Omnibus Budget Reconciliation Act of 1990) (Public Law 101-508) and part 158 of the Federal Aviation Regulations (14 CFR part 158).

DATES: Comments must be received on or before May 2, 2002.

ADDRESSES: Comments on this application may be mailed or delivered in triplicate to the FAA at the following address: Federal Aviation Administration, Airports Division, 15000 Aviation Blvd., Lawndale, CA 90261, or San Francisco Airports District Office, 831 Mitten Road, Room 210, Burlingame, CA 93010-1303. In addition, one copy of any comments submitted to the FAA must be mailed or delivered to Mr. G. Hardy Acree, Director of Airports, Sacramento County Department of Airports, at the following address: 6900 Airport Boulevard, Sacramento, CA 95837. Air carriers and foreign air carriers may submit copies of written comments previously provided to the Sacramento County under section 158.23 of Part 158.

FOR FURTHER INFORMATION CONTACT: Marlys Vandervelde, Airports Program Analyst, San Francisco Airports District Office, 831 Mitten Road, Room 210, Burlingame, CA 9410-1303, Telephone: (650) 876-2806. The application may be reviewed in person at this same location.

SUPPLEMENTARY INFORMATION: The FAA proposes to rule and invites public comment on the application to impose and use the revenue from a PFC at Sacramento International Airport under the provisions of the Aviation Safety and Capacity Expansion Act of 1990 (Title IX of the Omnibus Budget Reconciliation Act of 1990) (Public Law 101-508) and Part 158 of the Federal Aviation Regulations (14 CFR part 158). On February 28, 2002, the FAA determined that the application to impose and use the revenue from a PFC submitted by the Sacramento County Department of Airports was substantially complete within the requirements of section 158.25 of part 158. The FAA will approve or disapprove the application, in whole or in part, no later than May 30, 2002.

The following is a brief overview of the impose and use application No. 02-07-C-00-SMF:

Level of proposed PFC: $4.50.

Proposed charge effective date: February 2, 2010.

Proposed charge expiration date: June 1, 2010.

Total estimated PFC revenue: $11,141,350.

Brief description of the proposed projects: International Arrivals. Facility, CCTV Camera and VCR Replacement, Card Access System Replacement, Taxiway A Rehabilitation, Aircraft Rescue and Firefighting Vehicle (568) Replacement, Runway 16R-34L and Exit Taxiway Rehabilitation, Terminal A Apron-Phase 2, Aircraft Rescue and Firefighting Building Remodel, and United Airlines Air Cargo Building Pavement Reconstruction.

Class or classes of air carriers which the public agency has requested not be required to collect PFCs: None.

Any person may inspect the application in person at the FAA office listed above under FOR FURTHER INFORMATION CONTACT and at the FAA Regional Airports Division located at: Federal Aviation Administration, Airports Division, 15000 Aviation Blvd., Lawndale, CA 90261. In addition, any person may, upon request, inspect the application, notice and other documents germane to the application in person at the Sacramento County Department of Airports.

Issued in Hawthorne, California, on February 28, 2002.
Herman C. Bliss,
Manager, Airports Division, Western-Pacific Region.

[FR Doc. 02-7965 Filed 4-1-02; 8:45 am]

BILLING CODE 4910-13-M